DEPARTMENT OF DEFENSE

Department of the Army

Record of Decision (ROD)—Destruction of Chemical Warfare Material at Blue Grass Army Depot, Kentucky

AGENCY: Department of the Army, DoD.

ACTION: Record of Decision.

SUMMARY: This announces the availability of the ROD to employ chemical neutralization followed by supercritical water oxidation (SCWO) at the Blue Grass Army Depot. The ROD documents the environmental analysis of the Defense Acquisition Executive decision to employ chemical neutralization followed by SCWO. A variety of factors were considered in making the technology selection decision including, but not limited to, mission needs, cost, schedule, environmental considerations, public concerns, and compliance with Chemical Weapons Convention.

ADDRESSES: To obtain a copy of the ROD, contact the Program Manger for Chemical Demilitarization, Public Outreach and Information Office (Attn: Mr. Mahall), Aberdeen Proving Ground, Maryland 21010-4005.

FOR FURTHER INFORMATION CONTACT: Mr. Gregory Mahall at (410) 436-1093, by far at (410) 436-5122, by mail at the above listed address or by electronic mail at gregory.mahall@pmcd.apgea.army.mil.

SUPPLEMENTARY INFORMATION: In its ROD of February 1988 (53 FR 5816, February 26, 1988) for the Final Programmatic Environmental Impact Statement (EIS) on the Chemical Stockpile Disposal Program (CSDP), the Department of the Army selected on-site disposal by incineration at all eight chemical munition storage sites located within the continental United States as the method by which it will destroy its lethal chemical stockpile. The Department of the Army published a Notice of Intent in the Federal Register (65 FR 75677-78, December 4, 2000) which provided notice that, pursuant to the National Environmental Policy Act (NEPA) and implementing regulations, it was preparing a draft site-specific EIS for the Blue Grass Army Depot. On May 30, 2002, the Army published a Draft EIS to assess the site-specific health and environmental impacts of demilitarization of the chemical warfare material stored at the Blue Grass Army Depot. The Final EIS was published on December 27, 2002. All public comments received during the NEPA process have been considered in making this decision.

Dated: February 28, 2003.
Raymond J. Fatz,
Deputy Assistant Secretary of the Army (Environment, Safety and Occupational Health), OASA (I&E).

[FR Doc. 03-5252 Filed 3-5-03; 8:45 am]

BILLING CODE 3710-08-M